ENVIRONMENTAL PROTECTION AGENCY

40 CFR Part 52

[EPA-HQ-OAR-2012-0322; FRL-9799-7]

RIN 2060-AR68

State Implementation Plans: Response to Petition for Rulemaking; Findings of Substantial Inadequacy; and SIP Calls To Amend Provisions Applying to Excess Emissions During Periods of Startup, Shutdown, and Malfunction

AGENCY: Environmental Protection Agency (EPA).

ACTION: Notice of extension of public comment period.

SUMMARY: The EPA is announcing an extension of the public comment period for its proposal titled, “State Implementation Plans: Response to Petition for Rulemaking; Findings of Substantial Inadequacy; and SIP Calls to Amend Provisions Applying to Excess Emissions During Periods of Startup, Shutdown, and Malfunction.” The EPA has received numerous requests for extension of the comment period beyond the current deadline of April 11, 2013, and one request that it not extend the comment period by an additional 60 to 90 days, and in response to those requests the EPA is extending the comment period by an additional 30 days.

DATES: Comments on the proposed rule published February 22, 2013 (78 FR 12460) must be received on or before May 13, 2013.

ADDRESSES: Submit your comments, identified by Docket ID No. EPA-HQ-OAR-2012-0322, by one of the following methods:

• http://www.regulations.gov: Follow the online instructions for submitting comments.

• Email: a-and-r-docket@epa.gov.

• Fax: (202) 566-9744.

• Mail: Attention Docket ID No. EPA-HQ-OAR-2012-0322, U.S. Environmental Protection Agency, EPA West (Air Docket), 1200 Pennsylvania Avenue NW., Mail Code: 6102T, Washington, DC 20460. Please include a total of two copies.

• Hand Delivery: U.S. Environmental Protection Agency, EPA West (Air Docket), 1301 Constitution Avenue, Northwest, Room 3334, Washington, DC 20004, Attention Docket ID No. EPA-HQ-OAR-2012-0322. Such deliveries are only accepted during the Docket's normal hours of operation, and special arrangements should be made for deliveries of boxed information.

Instructions. Direct your comments to Docket ID No. EPA-HQ-OAR-2012-0322. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any CD you submit. If the EPA cannot read your comment due to technical difficulties and cannot contact you for clarification, the EPA may not be able to consider your comment. Electronic files should avoid the use of special characters, avoid any form of encryption, and be free of any defects or viruses. For additional information about the EPA's public docket visit the EPA Docket Center homepage at www.epa.gov/epahome/dockets.htm. For additional instructions on submitting comments, go to section I.A of the SUPPLEMENTARY INFORMATION section of this document.

Docket. All documents in the docket are listed in the www.regulations.gov index. Although listed in the index, some information is not publicly available, e.g., Confidential Business Information (CBI) or other information whose disclosure is restricted by statute. Certain other material, such as copyrighted material, will be publicly available only in hard copy. Publicly available docket materials are available either electronically at www.regulations.gov or in hard copy at the U.S. Environmental Protection Agency, Air Docket, EPA/DC, EPA West Building, Room 3334, 1301 Constitution Ave. NW., Washington, DC The Public Reading Room is open from 8:30 a.m. to 4:30 p.m., Monday through Friday, excluding legal holidays. The telephone number for the Public Reading Room is (202) 566-1744, and the telephone number for the Air Docket is (202) 566-1742.

FOR FURTHER INFORMATION CONTACT: Questions concerning this action should be addressed to Ms. Lisa Sutton, U.S. EPA, Office of Air Quality Planning and Standards, State and Local Programs Group, (C539-01), Research Triangle Park, NC 27711, telephone number (919) 541-3450, email at sutton.lisa@epa.gov.

SUPPLEMENTARY INFORMATION:

I. General Information

A. What should I consider as I prepare my comments?

1. Submitting CBI. Do not submit this information to the EPA through www.regulations.gov or email. Clearly mark the part or all of the information that you claim to be CBI. For CBI information in CD that you mail to the EPA, mark the outside of the CD as CBI and then identify electronically within the CD the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, OAQPS Document Control Officer (C404-02), U.S. EPA, Research Triangle Park, NC 27711, Attention Docket ID No. EPA-HQ-OAR-2012-0322.

2. Tips for preparing your comments. When submitting comments, remember to:

• Identify the rulemaking by docket number and other identifying information (subject heading, Federal Register date, and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

Make sure to submit your comments by the comment period deadline identified.

B. Where can I get a copy of this document and other related information?

In addition to being available in the docket, an electronic copy of this notice will also be available on the World Wide Web. Following signature, a copy of this notice will be posted on the EPA's Web site, under SSM SIP Call 2013, at www.epa.gov/air/urbanair/sipstatus. In addition to this notice, other relevant documents are located in the docket, including the proposal notice and comments received on the proposed rulemaking so far, including requests for extension of the comment period.

II. Background

The purpose of this notice is to extend the public comment period on the EPA's recently proposed rulemaking titled, “State Implementation Plans: Response to Petition for Rulemaking; Findings of Substantial Inadequacy; and SIP Calls to Amend Provisions Applying to Excess Emissions During Periods of Startup, Shutdown, and Malfunction.” The proposal was published in the Federal Register on February 22, 2013, with an original deadline of March 25, 2013, for receipt of comments. However, as provided in the proposal, because a public hearing on the proposal was requested and this hearing was held on March 12, 2013, the deadline for receipt of comments was automatically extended to 30 days after the date of the public hearing. Accordingly, the public comment period for the proposal has already been extended to April 11, 2013.

The EPA has received numerous requests to extend the end date of the comment period for the proposed rulemaking beyond April 11, 2013. Those requesting additional time include industry, industry trade associations, and state and local air pollution agencies in potentially affected states. These requestors claim that because the proposal is complex and far-reaching, with unique state-specific issues, they need extra time during which to review existing SIP provisions in light of the proposed actions and to provide meaningful and comprehensive comments on all aspects of the proposal.

The EPA has also received, to date, one request that it not extend the comment period for the proposed rulemaking. This request was from the environmental group that submitted the petition at issue to the EPA. This requestor opposes requests to extend the comment period by an additional 60 to 90 days, given the seriousness of public health issues at stake and the already extended period of time it will take to address any necessary SIP revisions as a result of the proposed rulemaking, and because the justifications offered for extension of the comment period are not relevant to the specific issues in the rulemaking.

The EPA has carefully evaluated these competing requests regarding the length of the public comment period for the proposed rulemaking. In response to these requests, the EPA by this notice is extending the comment period for an additional 30 days, that is, until May 13, 2013. Accordingly, the EPA notes, commenters thus have a comment period of 80 days from the date the proposed rulemaking was published in the Federal Register and 89 days from the date the proposed rulemaking was posted on the EPA's Web site. The EPA believes that this length of comment period is reasonable and appropriate, considering the issues addressed in the proposed rulemaking.

Dated: April 2, 2013.
Mary E. Henigin,
Acting Director, Office of Air Quality Planning and Standards.

[FR Doc. 2013-08118 Filed 4-5-13; 8:45 am]

BILLING CODE 6560-50-P